DEPARTMENT OF HOMELAND SECURITY

Federal Emergency Management Agency

44 CFR Part 65

[Docket No. FEMA-B-7750]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Madison | City of Huntsville (06-04-BY84P) | September 21, 2007, September 28, 2007, Madison County Record | The Honorable Loretta Spencer, Mayor, City of Huntsville, P.O. Box 308, Huntsville, AL 35804 | October 1, 2007 | 010153
Madison | Unincorporated areas of Madison County (06-04-BY84P) | September 21, 2007, September 28, 2007, Madison County Record | The Honorable Mike Gillespie, Chairman, Madison County Commission, 6994 Courthouse 700, 100 North Side Square, Huntsville, AL 35801 | October 1, 2007 | 010151
Arizona: Coconino | Unincorporated areas of Coconino County (07-09-0172P) | September 13, 2007, September 20, 2007, Arizona Daily Sun | The Honorable Elizabeth Archuleta, Chairperson, Coconino County, Board of Commissioners, 2500 North Fort Valley Road, Building One, Flagstaff, AZ 86001 | September 27, 2007 | 040019
Pima | Town of Marana (07-09-1759P) | September 6, 2007, September 13, 2007, The Daily Territorial | The Honorable Ed Honea, Mayor, Town of Marana, Marana Municipal Complex, 11555 West Civic Center Drive, Marana, AZ 85653 | December 13, 2007 | 040118
Pima | Unincorporated areas of Pima County (07-09-1759P) | September 6, 2007. September 13, 2007, The Daily Territorial | The Honorable Richard Elias, Chairman, Pima County, Board of Supervisors, 130 West Congress Street, 11th Floor, Tucson, AZ 85701 | December 13, 2007 | 040073
California: San Diego | City of Carlsbad (07-09-1622P) | October 4, 2007, October 11, 2007, San Diego Daily Transcript | The Honorable Claude A. Lewis, Mayor, City of Carlsbad, 1200 Carlsbad Village Drive, Carlsbad, CA 92008 | September 24, 2007 | 060285
San Diego | City of San Marcos (07-09-1622P) | October 4, 2007, October 11, 2007, San Diego Daily Transcript | The Honorable James Desmond, Mayor, City of San Marcos, One Civic Center Drive, San Marcos, CA 92069 | September 24, 2007 | 060296
San Diego | Unincorporated areas of San Diego County (07-09-1622P) | October 4, 2007, October 11, 2007, San Diego Daily Transcript | The Honorable Ron Roberts, Chairman, San Diego County, Board of Supervisors, 1600 Pacific Highway, Room 335, San Diego, CA 92101 | September 24, 2007 | 060284
San Joaquin | City of Lathrop (07-09-0844P) | September 20, 2007, September 27, 2007, The Record | The Honorable Apolinar Sangalang, Mayor, City of Lathrop, 16775 Howland Road, Suite One, Lathrop, CA 95330 | August 31, 2007 | 060738
Yuba | Unincorporated areas of Yuba County (07-09-1090P) | September 20, 2007, September 27, 2007, Marysville Appeal-Democrat | Mr. Robert Bendorf, County Administrator, Yuba County 915 Eighth Street, Suite 115, Marysville, CA 95901 | August 31, 2007 | 060427
Colorado: Boulder | City of Longmont (07-08-0506P) | September 6, 2007, September 13, 2007, The Daily Camera | The Honorable Julia Pirnack, Mayor, City of Longmont, 864 Fourth Avenue, Longmont, CO 80501 | December 13, 2007 | 080027
Boulder | Unincorporated areas of Boulder County (07-08-0506P) | September 6, 2007, September 13, 2007, The Daily Camera | The Honorable Ben Pearlman, Chairman, Boulder County, Board of Commissioners, P.O. Box 471, Boulder, CO 80306 | December 13, 2007 | 080023
Georgia: Athens-Clarke | Unincorporated areas of Athens-Clarke County (07-04-174P) | October 5, 2007, October 12, 2007, Athens Banner-Herald | The Honorable Heidi Davison, Mayor, Athens-Clarke County, 235 Wells Drive, Athens, GA 30606 | September 14, 2007 | 130040
Barrow | Unincorporated areas of Barrow County (07-04-2937P) | September 12, 2007, September 19, 2007, The Barrow County News | The Honorable Douglas H. Garrison, Chairman, Barrow County, Board of Commissioners, 233 East Broad Street, Winder, GA 30680 | December 19, 2007 | 130497
Bryan | City of Richmond Hill (07-04-5472P) | September 12, 2007, September 19, 2007, Bryan County News | The Honorable Richard R. Davis, Mayor, City of Richmond Hill, P.O. Box 250, Richmond Hill, GA 31324 | December 19, 2007 | 130018
Bryan | Unincorporated areas of Bryan County (07-04-5472P) | September 12, 2007, September 19, 2007, Bryan County news | The Honorable Jimmy Burnsed, Chairman, Bryan County, Board of Commissioners, 116 Lanier Street, Pembroke, GA 31321 | December 19, 2007 | 130016
Cherokee | Unincorporated areas of Cherokee County (07-04-3183P) | September 14, 2007, September 21, 2007, Cherokee Tribune | The Honorable Buzz Ahrens, Chairman, Cherokee County, Board of Commissioners, 90 North Street, Suite 310, Canton, GA 30114 | August 30, 2007 | 130424
Gwinnett | City of Sugar Hill (07-04-3458P) | September 20, 2007, September 27, 2007, Gwinnett Daily Post | The Honorable Gary Pirkle, Mayor, City of Sugar Hill, 4988 West Broad Street, Sugar Hill, GA 30518 | December 27, 2007 | 130474
Gwinnett | Unincorporated areas of Gwinnett County (07-04-3458P) | September 20, 2007, September 27, 2007, Gwinnett Daily Post | The Honorable Charles Bannister, Chairman, Gwinnett County Board of Commissioners, 75 Langley Drive, Lawrenceville, GA 30045 | December 27, 2007 | 130322
Maine: Waldo | City of Belfast (07-01-0690P) | August 11, 2007, August 16, 2007, The Republican Journal | Mr. Terrence St. Peter, City Manager, City of Belfast, 131 Church Street, Belfast, ME 04915 | July 23, 2007 | 230129
Maryland: Carroll | Unincorporated areas of Carroll County (07-03-0510P) | September 13, 2007, September 20, 2007, Carroll County Times | Ms. Julia W. Gouge, President, Carroll County Board of Commissioners, Carroll County Office Building, 225 North Center Street, Westminster, MD 21157 | August 28, 2007 | 240015
Massachusetts: Plymouth | Town of Hanover (07-01-0795P) | September 19, 2007, September 26, 2007, Hanover Mariner | The Honorable R. Alan Rugman, Chairman, Board of Selectmen, 550 Hanover Street, Hanover, MA 02339 | December 26, 2007 | 250266
Minnesota: Polk | City of East Grand Forks (07-05-2270P) | September 29, 2007, October 3, 2007, The Exponent | The Honorable Lynn Stauss, Mayor, City of East Grand Forks, City Hall, 600 Demers Avenue, East Grand Forks MN 56721 | January 2, 2008 | 275236
Polk | Unincorporated areas of Polk County (07-05-2270P) | September 29, 2007, October 3, 2007, The Exponent | The Honorable Warren Affeldt, Chairman, Polk County Board of Commissioners, 612 North Broadway, Suite 215, Crookston, MN 56716 | January 2, 2008 | 270503
Mississippi: Rankin | City of Brandon (07-04-3666P) | September 12, 2007, September 19, 2007, Rankin County News | The Honorable Carlo Martella, Mayor, City of Brandon, P.O. Box 1539, Brandon, MS 39043 | August 24, 2007 | 280143
Rankin | City of Pearl (07-04-3666P) | September 12, 2007, September 19, 2007, Rankin County News | The Honorable Jimmy Foster, Mayor, City of Pearl, P.O. Box 5948, Pearl, MS 39288-5948 | August 24, 2007 | 280145
Rankin | Unincorporated areas of Rankin County (07-04-3666P) | September 12, 2007, September 19, 2007, Rankin County News | The Honorable Ken Martin, Chairman, Rankin County Board of Supervisors, 211 East Government Street, Suite A, Brandon, MS 39042 | August 24, 2007 | 280142
Missouri: Lincoln | Unincorporated areas of Lincoln County (06-07-BA52P) | August 22, 2007, August 29, 2007, The Troy Free Press | The Honorable Sean O'Brien, Presiding Commissioner, Lincoln County, Lincoln County Courthouse, 201 Main Street, Troy, MO 63379 | November 28, 2007 | 290869
St. Louis | City of Valley Park (07-07-1587P) | September 13, 2007, September 20, 2007, The St. Louis Daily Record | The Honorable Jeffery Whitteaker, Mayor, City of Valley Park, 320 Benton Street, Valley Park, MO 63088 | August 29, 2007 | 290391
Montana: Lincoln | Unincorporated areas of Lincoln County (07-08-0447P) | August 2, 2007, August 9, 2007, Tobacco Valley News | The Honorable Rita Windom, Chairwoman, Lincoln County Board of Commissioners, 512 California Avenue, Libby, MT 59923 | July 10, 2007 | 300157
New Mexico: Bernalillo | City of Albuquerque (07-06-1449P) | October 4, 2007, October 11, 2007, The Albuquerque Journal | The Honorable Martin J. Chavez, Mayor, City of Albuquerque, P.O. Box 1293, Albuquerque, NM 87103 | September 18, 2007 | 350002
Sandoval | Unincorporated areas of Sandoval County (07-06-1048P) | September 20, 2007, September 27, 2007, The Santa Fe New Mexican | Ms. Debbie Hayes, County Manager, Sandoval County, P.O. Box 40, Bernalillo, NM 87004 | August 27, 2007 | 350055
Nevada: Clark | Unincorporated areas of Clark County (06-09-BG37P) | September 6, 2007, September 13, 2007, Las Vegas Review-Journal | The Honorable Rory Reid, Chair, Clark County Board of Commissioners, 500 South Grand Central Parkway, Las Vegas, NV 89106 | December 13, 2007 | 320003
Oklahoma: Carter | City of Ardmore (07-06-0167P) | September 6, 2007, September 13, 2007, Daily Ardmoreite | The Honorable John Moore, Mayor, City of Ardmore, P.O. Box 249, Ardmore, OK 73402 | December 13, 2007 | 400031
Rhode Island: Providence | City of Cranston (07-01-0910P) | August 23, 2007, August 30, 2007, Cranston Herald | The Honorable Michael Napolitano, Mayor, City of Cranston, Cranston City Hall, 869 Park Avenue, Cranston, RI 02910 | July 31, 2007 | 445396
South Carolina: Aiken | City of North Augusta (07-04-2732P) | September 13, 2007, September 20, 2007, Aiken Standard | The Honorable Lark W. Jones, Mayor, City of North Augusta, P.O. Box 6400, North Augusta, SC 29861 | August 27, 2007 | 450007
Texas: Austin | City of Sealy (07-06-2014P) | September 18, 2007, September 25, 2007, The Sealy News | The Honorable Russell L. Koym, Mayor, City of Sealy, P.O. Box 517, Sealy, TX 77474 | December 26, 2007 | 480017
Bexar | City of San Antonio (06-06-B105P) | September 13, 2007, September 20, 2007, Daily Commercial Recorder | The Honorable Phil Hardberger, Mayor, City of San Antonio, P.O. Box 839966, San Antonio, TX 78283 | August 30, 2007 | 480045
Bexar | City of San Antonio (07-06-0793P) | September 27, 2007, October 4, 2007, Daily Commercial Recorder | The Honorable Phil Hardberger, Mayor, City of San Antonio, P.O. Box 839966, San Antonio, TX 78283 | January 3, 2008 | 480045
Brazos | City of Bryan (05-06-1677P) | September 6, 2007, September 13, 2007, The Eagle | The Honorable D. Mark Conlee, Mayor, City of Bryan, 300 South Texas Avenue, Bryan, TX 77803 | December 13, 2007 | 480082
Brazos | Unincorporated areas of Brazos County (05-06-1677P) | September 6, 2007, September 13, 2007, The Eagle | The Honorable Randy Sims, Brazos County Judge, 300 East 26th Street, Suite 114, Bryan, TX 77803 | December 13, 2007 | 481195
Collin | City of Allen (07-06-0941P) | August 30, 2007, September 6, 2007, The Allen American | The Honorable Stephen Terrell, Mayor, City of Allen, 305 Century Parkway, Allen, TX 75013 | August 16, 2007 | 480131
Collin | City of Anna (07-06-1349P) | September 13, 2007, September 20, 2007, McKinney Courier-Gazette | The Honorable Kenneth Pelham, Mayor, City of Anna, P.O. Box 776, Anna, TX 75409 | December 20, 2007 | 480132
Dallas | City of Irving (06-06-BA90P) | September 20, 2007, September 27, 2007, Dallas Morning News | The Honorable Herbert A. Gears, Mayor, City of Irving, 825 West Irving Boulevard, Irving, TX 75060 | December 27, 2007 | 480180
Harris | Unincorporated areas of Harris County (07-06-1673P) | September 20, 2007, September 27, 2007, Houston Chronicle | The Honorable Ed Emmett, Harris County Judge, 1001 Preston, Suite 911, Houston, TX 77002 | December 27, 2007 | 480287
Montgomery | Unincorporated areas of Montgomery County (07-06-1001P) | September 12, 2007, September 19, 2007, The Montgomery County News | The Honorable Alan B. Sadler, County Judge, Montgomery County, 301 North Thompson, Suite 210, Conroe, TX 77301 | October 1, 2007 | 480483
Tarrant | City of Fort Worth (07-06-0876P) | September 13, 2007, September 20, 2007, Fort Worth Star-Telegram | The Honorable Mike J. Moncrief, Mayor, City of Fort Worth, 1000 Throckmorton Street, Fort Worth, TX 76102 | December 20, 2007 | 480596
Tarrant | City of Fort Worth (07-06-0930P) | September 20, 2007, Septebmer 27, 2007, Fort Worth Star-Telegram | The Honorable Mike J. Moncrief, Mayor, City of Fort Worth, 1000 Throckmorton Street, Fort Worth, TX 76102 | December 27, 2007 | 480596
Tarrant | City of Fort Worth (07-06-1902P) | September 20, 2007, September 27, 2007, Fort Worth Star-Telegram | The Honorable Mike J. Moncrief, Mayor, City of Fort Worth, 1000 Throckmorton Street, Fort Worth, TX 76102 | August 31, 2007 | 480596
Williamson | City of Round Rock (07-06-2615P) | September 18, 2007, September 25, 2007, Round Rock Leader | The Honorable Nyle Maxwell, Mayor, City of Round Rock, 221 East Main Street, Round Rock, TX 78664 | December 26, 2007 | 481048
Williamson | Unincorporated areas of Williamson County (07-06-2615P) | September 18, 2007, September 25, 2007, Round Rock Leader | The Honorable Dan A. Gattis, Williamson County Judge, 301 Southeast Inner Loop, Suite 109, Georgetown, TX 78626 | December 26, 2007 | 481079
Virginia: Chesterfield | Unincorporated areas of Chesterfield County (07-03-1156P) | September 20, 2007 September 27, 2007 Richmond Times-Dispatch | The Honorable Kelly E. Miller, Chairman, Chesterfield County, Board of Supervisors, P.O. Box 40, Chesterfield, VA 23832-0040 | December 27, 2007 | 510035
Fauquier | Unincorporated areas of Fauquier County (07-03-1036P) | September 12, 2007 September 19, 2007 Fauquier Times Democrat | Mr. Harry Atherton, Chairman, Fauquier County, Board of Supervisors, Ten Hotel Street, Suite 208, Warrenton, VA 20186 | February 7, 2008 | 510055
Wisconsin: Waukesha | Village of Dousman (06-05-B016P) | September 27, 2007 October 4, 2007 The Freeman | The Honorable Jack Nissen, Village President, Village of Dousman, 118 South Main Street, Dousman, WI 53118 | January 3, 2008 | 550480
Waukesha | Unincorporated areas of Waukesha County (06-05-B016P) | September 27, 2007 October 4, 2007 The Freeman | The Honorable Daniel Vrakas, County Executive, Waukesha County, 1320 Pewaukee Road, Room 320, Waukesha, WI 53188 | January 3, 2008 | 550476
Sweetwater | City of Rock Springs (07-08-0796P) | September 22, 2007 September 27, 2007 Rock Springs Daily Rocket-Miner | The Honorable Timothy A. Kaumo, Mayor, City of Rock Springs, 212 D Street, Rock Springs, WY 82901 | October 1, 2007 | 560051
Wyoming: Sweetwater | Unincorporated areas of Sweetwater County (07-08-0796P) | September 22, 2007 September 27, 2007 Rock Springs Daily Rocket-Miner | The Honorable Wally Johnson, Chairman, Sweetwater County, Board of Commissioners, 80 West Flamingo Gorge Way, Green River, WY 82935 | October 1, 2007 | 560087

(Catalog of Federal Domestic Assistance No. 97.022, “Flood Insurance.”)

Dated: November 19, 2007.
David I. Maurstad,
Federal Insurance Administrator of the National Flood Insurance Program, Department of Homeland Security, Federal Emergency Management Agency.

[FR Doc. E7-23214 Filed 11-29-07; 8:45 am]

BILLING CODE 9110-12-P